DEPARTMENT OF COMMERCE

International Trade Administration

[A-570-894]

Notice of Extension of Time Limit for Final Results of Antidumping Duty Administrative Review: Certain Tissue Paper Products from the People's Republic of China

AGENCY: Import Administration, International Trade Administration, U.S. Department of Commerce.

FOR FURTHER INFORMATION CONTACT: Brian Smith or Brandon Custard, AD/CVD Operations, Office 2, Import Administration, International Trade Administration, U.S. Department of Commerce, 14th Street and Constitution Avenue, NW, Washington, DC, 20230; telephone: (202) 482-1766 or (202) 482-1823, respectively.

Background

On April 6, 2009, the Department of Commerce (the Department) published in the Federal Register the preliminary results of the administrative review of the antidumping duty order on certain tissue paper products from the People's Republic of China (“PRC”), covering the period March 1, 2007, through February 29, 2008. See Certain Tissue Paper Products from the People's Republic of China: Preliminary Results and Partial Rescission of the 2007-2008 Administrative Review and Intent Not to Revoke Order in Part, 74 FR 15449 (April 6, 2009). The current deadline for the final results in this review is August 4, 2009.

Extension of Time Limits for Final Results of Review

Section 751(a)(3)(A) of the Tariff Act of 1930, as amended (“the Act”), requires the Department to issue the final results of the review of an antidumping duty order within 120 days after the date on which the preliminary results is published in the Federal Register. If it is not practicable to complete the review within this time period, the Department may extend that 120-day period to 180 days.

Having provided the interested parties more time to submit publicly available information and case and rebuttal briefs for consideration in the final results of this review, the Department finds that it is not practicable to complete the final results of this review within the current time frame, as it requires additional time to properly analyze the data and arguments submitted by the interested parties.

Therefore, in accordance with section 751(a)(3)(A) of the Act, the Department is extending the time limit for completion of the final results of this review until October 5, 2009, which is the next business day after 180 days after the date on which the notice of the preliminary results was published in the Federal Register.

We are issuing and publishing this notice in accordance with sections 751(a)(1) and 777(i)(1) of the Act.

Dated: July 14, 2009.
John M. Andersen,
Acting Deputy Assistant Secretary for Antidumping and Countervailing Duty Operations.

[FR Doc. E9-17299 Filed 7-20-09; 8:45 am]

BILLING CODE 3510-DS-S